DEPARTMENT OF HEALTH AND HUMAN SERVICES

Announcement of Solicitation of Written Comments on Proposed Healthy People 2030 Objectives and Request for Information on the Relationship Between Voter Participation and Health

AGENCY: Office of Disease Prevention and Health Promotion, Office of the Assistant Secretary of Health, Office of the Secretary, Department of Health and Human Services.

ACTION: Notice.

SUMMARY: The U.S. Department of Health and Human Services (HHS) solicits written comments on three new objectives proposed to be added to Healthy People 2030 since its launch in August 2020; written comments from the public proposing additional new core, developmental, or research objectives to be included in Healthy People 2030; and evidence-based information regarding the relationship between voter participation and health status as a measure of civic engagement. Public comment informed the development of Healthy People 2030. HHS will provide opportunities for public input periodically throughout the decade to ensure Healthy People 2030 reflects current public health priorities and public input. The updated set of Healthy People 2030 objectives will be incorporated on www.health.gov/HealthyPeople2030. This updated set will reflect further review and deliberation by federal Healthy People topic area workgroups, the Federal Interagency Workgroup on Healthy People 2030, and other federal subject matter experts.

DATES: Written comments and evidence-based information will be accepted through 11:59 p.m. ET, January 10, 2022.

ADDRESSES: Written comments should be submitted by email to HP2030Comment@hhs.gov.

FOR FURTHER INFORMATION CONTACT: Carter Blakey, Office of Disease Prevention and Health Promotion, U.S. Department of Health and Human Services, 1101 Wootton Parkway, Suite 420, Rockville, MD 20852; Email: HP2030@hhs.gov.

SUPPLEMENTARY INFORMATION: Since 1980, Healthy People has provided a comprehensive set of national health promotion and disease prevention objectives with 10-year targets aimed at improving the health of all. Healthy People 2030 objectives present a picture of the nation's health at the beginning of the decade, establish national goals and targets to be achieved by the year 2030, and monitor progress over time. The U.S. Department of Health and Human Services (HHS) is soliciting the submission of written comments regarding three new objectives proposed to be added to Healthy People 2030 since the initiative's launch in August 2020. The public is also invited to submit proposals for additional new core, developmental, or research objectives that meet the criteria outlined below.

In addition, HHS is seeking evidence-based information regarding the relationship between voter participation and health as a measure of civic engagement to support the Healthy People social determinants of health (SDOH) framework. Civic engagement is a component of the Social and Community Context domain of the Healthy People SDOH framework.

Healthy People 2030 is the product of an extensive collaborative process that relies on input from a diverse array of individuals and organizations, both within and outside the federal government, with a common interest in improving the nation's health. Public comments were a cornerstone of Healthy People 2030's development. During the first phase of planning for Healthy People 2030, HHS asked for the public's comments on the initiative's vision, mission, and overarching goals. Those comments helped set the framework for Healthy People 2030. The public was also invited to submit comments on proposed Healthy People 2030 objectives, which helped shape the current set of Healthy People 2030 objectives.

The public now is invited to comment on three new objectives proposed to be added to Healthy People 2030. These new objectives were developed by Healthy People topic area workgroups led by various agencies within the Federal Government. They have been reviewed by the Federal Interagency Workgroup on Healthy People 2030 and are presented now for the public's review and comment. They are:

1. Disability and Health-NEW-06: Increase the percentage of adults who can resume 50 percent or more of preinjury activities (with or without supports) 5 years after receiving acute inpatient rehabilitation for traumatic brain injury. Data Source: Traumatic Brain Injury Model Systems (TBIMS) National Database.

2. Public Health Infrastructure-NEW-08: Increase the proportion of tribal communities that have developed a health improvement plan. Data Source: Public Health in Indian Country Capacity Survey (PHICCS), National Indian Health Board (NIHB).

3. Public Health Infrastructure-NEW-09: Increase the proportion of tribal public health agencies that use Core Competencies for Public Health Professionals in continuing education for personnel. Data Source: Public Health in Indian Country Capacity Survey (PHICCS), National Indian Health Board (NIHB).

The public is also invited to propose additional core, developmental, or research objectives for consideration that address critical public health issues. Proposed new objectives must meet all the objective selection criteria (see below).

Objective Selection Criteria

Core Objectives

Core objectives must meet the following 5 criteria to be included in Healthy People 2030. Core objectives should (1) have a reliable, nationally representative data source with baseline data no older than 2015; (2) have at least 2 additional data points beyond the baseline during the decade; (3) be of national importance; (4) have effective, evidence-based interventions available to achieve the objective; and (5) have data to help address disparities and achieve health equity.

Developmental Objectives

Developmental objectives will have the following characteristics: (1) Represent high priority issues; (2) do not have reliable baseline data yet; and (3) have evidence-based interventions available.

Research Objectives

Research objectives will have the following characteristics: (1) Represent key opportunities to make progress in areas with limited prior research, a high health or economic burden, or significant disparities between population groups; (2) may or may not have reliable baseline data; and (3) do not have evidence-based interventions available.

Written comments and evidence-based information should be submitted by email to HP2030Comment@hhs.gov by 11:59 p.m. ET on January 10, 2022. Comments received in response to this notice will be reviewed and considered by the Healthy People topic area workgroups, Federal Interagency Workgroup on Healthy People 2030, and other federal subject matter experts.

Authority: 42 U.S.C. 200u.

Paul Reed,
Deputy Assistant Secretary for Health,RADM, U.S. Public Health Service, Office of Disease Prevention and Health Promotion.

[FR Doc. 2021-26184 Filed 12-2-21; 8:45 am]

BILLING CODE 4150-32-P